DEPARTMENT OF ENERGY

Federal Energy Regulatory Commission

Combined Notice of Filings

Take notice that the Commission has received the following Natural Gas Pipeline Rate and Refund Report filings:

Filings Instituting Proceedings

Docket Numbers: RP15-859-000.

Applicants: Iroquois Gas Transmission System, L.P.

Description: § 4(d) rate filing per 154.204: 04/08/15 Capacity Release Index Pricing Supporting Publication/Tariff Clean Up to be effective 5/8/2015.

Filed Date: 4/8/15.

Accession Number: 20150408-5069.

Comments Due: 5 p.m. ET 4/20/15.

Docket Numbers: RP15-860-000.

Applicants: Questar Pipeline Company.

Description: § 4(d) rate filing per 154.204: Statement of Negotiated Rates, Version 10.0.0 to be effective 4/8/2015.

Filed Date: 4/8/15.

Accession Number: 20150408-5080.

Comments Due: 5 p.m. ET 4/20/15.

Docket Numbers: RP15-861-000.

Applicants: Questar Pipeline Company.

Description: § 4(d) rate filing per 154.204: QPC Cleanup 2015 to be effective 5/8/2015.

Filed Date: 4/8/15.

Accession Number: 20150408-5092.

Comments Due: 5 p.m. ET 4/20/15.

Docket Numbers: RP15-862-000.

Applicants: White River Hub, LLC.

Description: § 4(d) rate filing per 154.204: Cleanup to be effective 5/8/2015.

Filed Date: 4/8/15.

Accession Number: 20150408-5101.

Comments Due: 5 p.m. ET 4/20/15.

Docket Numbers: RP15-863-000.

Applicants: Questar Overthrust Pipeline Company.

Description: § 4(d) rate filing per 154.204: QOPC Cleanup Filing to be effective 5/8/2015.

Filed Date: 4/8/15.

Accession Number: 20150408-5121.

Comments Due: 5 p.m. ET 4/20/15.

Docket Numbers: RP15-864-000.

Applicants: Paiute Pipeline Company.

Description: § 4(d) rate filing per 154.204: Non-conforming TSAs—Rate Case to be effective 4/8/2015.

Filed Date: 4/8/15.

Accession Number: 20150408-5132.

Comments Due: 5 p.m. ET 4/20/15.

Docket Numbers: RP15-865-000.

Applicants: Cameron Interstate Pipeline, LLC.

Description: Annual Report of Operational Imbalances and Cash-out Activity of Cameron Interstate Pipeline, LLC.

Filed Date: 4/8/15.

Accession Number: 20150408-5143.

Comments Due: 5 p.m. ET 4/20/15.

Docket Numbers: RP15-866-000.

Applicants: Cameron Interstate Pipeline, LLC.

Description: Annual Report of Interruptible Transportation Revenue Sharing of Cameron Interstate Pipeline, LLC.

Filed Date: 4/8/15.

Accession Number: 20150408-5144.

Comments Due: 5 p.m. ET 4/20/15.

Docket Numbers: RP15-867-000.

Applicants: Cameron Interstate Pipeline, LLC.

Description: Annual Report of Penalty Revenues of Cameron Interstate Pipeline, LLC.

Filed Date: 4/8/15.

Accession Number: 20150408-5147.

Comments Due: 5 p.m. ET 4/20/15.

Docket Numbers: RP15-868-000.

Applicants: Cameron Interstate Pipeline, LLC.

Description: Annual Report of Transportation Imbalances and Cash-out Activity of Cameron Interstate Pipeline, LLC.

Filed Date: 4/8/15.

Accession Number: 20150408-5150.

Comments Due: 5 p.m. ET 4/20/15.

Docket Numbers: RP15-869-000.

Applicants: Questar Southern Trails Pipeline Company.

Description: § 4(d) rate filing per 154.204: QSTP Cleanup Filing to be effective 5/8/2015.

Filed Date: 4/8/15.

Accession Number: 20150408-5174.

Comments Due: 5 p.m. ET 4/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2015.
Nathaniel J. Davis, Sr.,
Deputy Secretary.

[FR Doc. 2015-08747 Filed 4-15-15; 8:45 am]

BILLING CODE 6717-01-P